DEPARTMENT OF LABOR

Employment and Training Administration

[TA-W-53,398]

Lumenis, Santa Clara, CA; Notice of Termination of Investigation

Pursuant to section 221 of the Trade Act of 1974, as amended, an investigation was initiated on October 31, 2003, in response to a petition filed on behalf of workers at Lumenis, Santa Clara, California. The workers produced medical laser systems and fiber optic hand-pieces.

The petition regarding the investigation has been deemed invalid. In order to establish a valid petition, all petitioners must have been employed at the subject firm during the one year period prior to the petition. Not all three petitioners meet this requirement of a valid petition. Consequently, the investigation has been terminated.

Signed in Washington, DC this 14th day of November 2003.
Richard Church,
Certifying Officer, Division of Trade Adjustment Assistance.

[FR Doc. 03-31533 Filed 12-22-03; 8:45 am]

BILLING CODE 4510-30-P